DEPARTMENT OF STATE

[Public Notice: 10170]

Notice of Determinations; Culturally Significant Object Imported for Exhibition Determinations: “Laura Owens” Exhibition

SUMMARY: Notice is hereby given of the following determinations: I hereby determine that a certain object to be included in the exhibition “Laura Owens,” imported from abroad for temporary exhibition within the United States, is of cultural significance. The object is imported pursuant to a loan agreement with the foreign owner or custodian. I also determine that the exhibition or display of the exhibit object at the Whitney Museum of American Art, New York, New York, from on or about November 10, 2017, until on or about February 4, 2018, at the Dallas Museum of Art, Dallas, Texas, from on or about March 25, 2018, until on or about July 29, 2018, at the Museum of Contemporary Art, Los Angeles, in Los Angeles, California, from on or about November 1, 2018, until on or about March 31, 2019, and at possible additional exhibitions or venues yet to be determined, is in the national interest.

FOR FURTHER INFORMATION CONTACT: For further information, including information identifying the object, contact Elliot Chiu in the Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257-1 of December 11, 2015). I have ordered that Public Notice of these determinations be published in the Federal Register.

Alyson Grunder,
Deputy Assistant Secretary for Policy, Bureau of Educational and Cultural Affairs, Department of State.

[FR Doc. 2017-22456 Filed 10-16-17; 8:45 am]

BILLING CODE 4710-05-P